DEPARTMENT OF COMMERCE

National Oceanic and Atmospheric Administration

RIN 0648-XC286

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet November 2-7, 2012. The Pacific Council meeting will begin on Saturday, November 3, 2012 at 8 a.m., reconvening each day through Wednesday, November 7, 2012. All meetings are open to the public, except a closed session will be held at the end of business on Saturday, November 3, 2012 to address litigation and personnel matters. The Pacific Council will meet as late as necessary each day to complete its scheduled business.

ADDRESSES: The meetings of the Pacific Council and its advisory entities will be held at the Hilton Orange County/Costa Mesa Hotel, 3050 Bristol Street, Costa Mesa, CA 92626; telephone: (714) 540-7000.

Council Address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Open Comment Period

1. Comments on Non-Agenda Items

C. Salmon Management

1. National Marine Fisheries Service (NMFS) Report

2. Preseason Salmon Management Schedule for 2013

3. 2012 Salmon Methodology Review

D. Habitat

1. Current Habitat Issues

E. Pacific Halibut Management

1. 2013 Pacific Halibut Regulations

F. Administrative Matters

1. Approval of Council Meeting Minutes

2. Fiscal Matters

3. Membership Appointments and Council Operating Procedures

4. Future Council Meeting Agenda and Workload Planning

G. Coastal Pelagic Species Management

1. NMFS Report

2. Exempted Fishing Permit (EFP) Process

3. Pacific Sardine Stock Assessment and Management for 2013, Including Preliminary EFP Proposals and Tribal Set-Aside

H. Enforcement Issues

1. Current Enforcement Issues

I. Groundfish Management

1. NMFS Report

2. Amendment 24 (Improvements to the Groundfish Management Process)

3. Progress Report on Using Descending Devices to Mitigate Barotrauma in Recreational Fisheries

4. Consideration of Inseason Adjustments

5. Trawl Rationalization Trailing Actions and Updates

J. Highly Migratory Species Management

1. Council Recommendations on International Highly Migratory Species Management

K. Ecosystem Based Management

1. Fishery Ecosystem Plan

2. Integrated Ecosystem Assessment Implementation Report

3. California Current Ecosystem Report

Schedule of Ancillary Meetings

Day 1—Friday, November 2, 2012

Coastal Pelagic Species Advisory Subpanel 8 a.m.

Coastal Pelagic Species Management Team 8 a.m.

Hake Carryover Workshop 8 a.m.

Scientific and Statistical Committee 8 a.m.

Habitat Committee 8:30 a.m.

Budget Committee 3 p.m.

Day 2—Saturday, November 3, 2012

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Highly Migratory Species Management Team 8 a.m.

Scientific and Statistical Committee 8 a.m.

Enforcement Consultants 4:30 p.m.

Day 3—Sunday, November 4, 2012

California State Delegation 7 a.m.

Oregon State Delegation 7 a.m.

Washington State Delegation 7 a.m.

Ecosystem Advisory Subpanel 8 a.m.

Groundfish Advisory Subpanel 8 a.m.

Groundfish Management Team 8 a.m.

Highly Migratory Species Advisory Subpanel 8 a.m.

Highly Migratory Species Management Team 8 a.m.

Enforcement Consultants As Needed

Annual Awards Banquet 6 p.m.

Day 4—Monday, November 5, 2012

California State Delegation 7 a.m.

Oregon State Delegation 7 a.m.

Washington State Delegation 7 a.m.

Ecosystem Advisory Subpanel 8 a.m.

Groundfish Advisory Subpanel 8 a.m.

Groundfish Management Team 8 a.m.

Enforcement Consultants As Needed

Day 5—Tuesday, November 6, 2012

California State Delegation 7 a.m.

Oregon State Delegation 7 a.m.

Washington State Delegation 7 a.m.

Groundfish Advisory Subpanel 8 a.m.

Groundfish Management Team 8 a.m.

Enforcement Consultants As Needed

Day 6—Wednesday, November 7, 2012

California State Delegation 7 a.m.

Oregon State Delegation 7 a.m.

Washington State Delegation 7 a.m.

Enforcement Consultants As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: October 9, 2012.
Tracey L. Thompson,
Acting Deputy Director, Office of Sustainable Fisheries, National Marine Fisheries Service.

[FR Doc. 2012-25117 Filed 10-11-12; 8:45 am]

BILLING CODE 3510-22-P